DEPARTMENT OF TRANSPORTATION

Federal Aviation Administration

14 CFR Part 39

[Docket No. FAA-2007-27268; Directorate Identifier 2007-CE-025-AD]

RIN 2120-AA64

Airworthiness Directives; Cessna Aircraft Company (Type Certificate Previously Held by Columbia Aircraft Manufacturing) Models LC40-550FG, LC41-550FG, and LC42-550FG Airplanes

AGENCY: Federal Aviation Administration (FAA), Department of Transportation (DOT).

ACTION: Notice of proposed rulemaking (NPRM).

SUMMARY: We propose to revise Airworthiness Directive (AD) 2007-07-06, which applies to certain Cessna Aircraft Company (type certificate previously held by Columbia Aircraft Manufacturing) (Cessna) Models LC40-550FG, LC41-550FG, and LC42-550FG airplanes. AD 2007-07-06 currently requires the following: adding information to the limitations section of the airplane flight manual (AFM); repetitively inspecting the aileron and the elevator linear bearings and control rods for foreign object debris, scarring, or damage; and taking all necessary corrective actions. Since we issued AD 2007-07-06, Cessna has issued a new service bulletin that contains procedures for installing an access panel to facilitate the required inspections. Consequently, this proposed AD would retain the actions currently required in AD 2007-07-06; allow installing access panels; and change the serial number applicability. We are proposing this AD to prevent jamming in the aileron and elevator control systems, which could result in failure. This failure could lead to loss of control.

DATES: We must receive comments on this proposed AD by October 6, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Company, Product Support, P.O. Box 7706, Wichita, Kansas 67227; phone (316) 517-5800; fax: (316) 942-9006.

FOR FURTHER INFORMATION CONTACT: Jeff Morfitt, Aerospace Engineer, FAA, Seattle Aircraft Certification Office, 1601 Lind Avenue SW., Renton, WA 98057; telephone: (425) 917-6405; fax: (425) 917-6590.

SUPPLEMENTARY INFORMATION:

Comments Invited

We invite you to send any written relevant data, views, or arguments regarding this proposed AD. Send your comments to an address listed under the ADDRESSES section. Include the docket number, “FAA-2007-27268; Directorate Identifier 2007-CE-025-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Reports of foreign material lodged in a linear bearing (part number LA57272500), which supports a push-pull tube in the aileron control system, on a Model LC41-550FG airplane caused us to issue AD 2007-07-06, Amendment 39-15011 (72 FR 15822, April 3, 2007). AD 2007-07-06 currently requires the following on certain Cessna Models LC40-550FG, LC41-550FG, and LC42-550FG airplanes:

• Adding information to the limitations section of the airplane flight manual (AFM);

• Repetitively inspecting the aileron and the elevator linear bearings and control rods for foreign object debris, scarring, or damage; and

• Taking all necessary corrective actions.

Since issuing AD 2007-07-06, Cessna has issued a new service bulletin that contains procedures for installing a linear bearing access panel to facilitate doing the inspections required in AD 2007-07-06. The inspections required in AD 2007-07-06 are to be done by drilling a 3/4-inch diameter hole in the flap cove.

Cessna has also changed the serial number applicability of the airplanes affected by AD 2007-07-06. Production methods have changed to eliminate the possibility of bearing contamination from adhesive during the assembly process. The bearing design has been changed to reduce the possibility of jamming, and access panels in the lower wing are now being installed during production.

The airplane maintenance manual has also been changed to incorporate an annual inspection requirement of the aileron linear bearings into the maintenance program for new production airplanes.

This condition, if not corrected, could result in jamming of the aileron and elevator control systems, which could result in loss of control.

Relevant Service Information

We have reviewed Cessna Mandatory Service Bulletins SB-07-002D and SB-07-018, both dated May 29, 2008.

These service bulletins describe procedures for:

• Adding information to the “Before Starting Engine” checklist;

• Inspecting the aileron and the elevator linear bearings and control rods for foreign object debris, scarring, or damage; and

• Installing a linear bearing access panel.

FAA's Determination and Requirements of the Proposed AD

We are proposing this AD because we evaluated all information and determined the unsafe condition described previously is likely to exist or develop on other products of the same type design. This proposed AD would revise AD 2007-07-06 with a new AD that would retain the actions currently required in AD 2007-07-06; allow installing access panels; and change the serial number applicability. This proposed AD would require you to use the service information described previously to perform these actions.

Costs of Compliance

We estimate that this AD affects 1,495 airplanes in the U.S. registry.

We estimate the following costs to do the proposed inspection:

Labor cost | Parts cost | Total cost per airplane | Total cost on U.S. operators
4 work-hours × $80 per hour = $320 | Not applicable | $320 | $478,400

We estimate the following costs to do the optional access panel installation:

Labor cost | Parts cost | Total cost per airplane
14 work-hours × $80 per hour = $1,120 | Not applicable | $1,120

Warranty credit for installing the access panel will be given to the extent noted in Cessna Mandatory Service Bulletins SB-07-018, dated May 29, 2008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-07-06, Amendment 39-15011 (72 FR 15822, April 3, 2007), and adding the following new AD:

Cessna Aircraft Company (type certificate previously held by Columbia Aircraft Manufacturing): Docket No. FAA-2007-27268; Directorate Identifier 2007-CE-025-AD.

Comments Due Date

(a) We must receive comments on this airworthiness directive (AD) action by October 6, 2008.

Affected ADs

(b) This AD revises AD 2007-07-06, Amendment 39-15011.

Applicability

(c) This AD applies to the following airplane models and serial numbers that are certificated in any category:

Model | Serial Nos.
LC40-550FG | 40001 through 40079.
LC41-550FG | 41001 through 41800 and 411001 through 411041.
LC42-550FG | 42001 through 42569 and 421001 through 421006.

Unsafe Condition

(d) This AD is the result of reports of possible foreign object contamination of the linear bearings. We are issuing this AD to prevent jamming in the aileron and elevator control systems, which could result in failure. This failure could lead to loss of control.

Compliance

(e) To address this problem, you must do the following, unless already done:

Actions | Compliance | Procedures
(1) Insert Appendix A of Columbia Mandatory Service Bulletin SB-07-002, dated March 14, 2007, or Appendix A of Cessna Mandatory Service Bulletin SB-07-002D, dated May 29, 2008, into the limitations section of the airplane flight manual (AFM) | Before further flight after April 9, 2007 (the compliance date retained from AD 2007-07-06) | The owner/operator holding at least a private pilot certificate as authorized by section 43.7 of the Federal Aviation Regulations (14 CFR 43.7) may do the AFM insertion requirement of this AD. Make an entry into the aircraft logbook showing compliance with this portion of the AD in accordance with section 43.9 of the Federal Aviation Regulations (14 CFR 43.9).
(2) Access and inspect the aileron bearings in both wings and the elevator bearings in the fuselage for foreign object debris | Initially inspect within the next 35 hours time-in-service (TIS) after April 9, 2007 (the compliance date retained from AD 2007-07-06). Repetitively inspect thereafter at intervals not to exceed 12 calendar months | Following Columbia Mandatory Service Bulletin SB-07-002, dated March 14, 2007, or Cessna Mandatory Service Bulletin SB-07-002D, dated May 29, 2008, and FAA-approved maintenance procedures. The appropriate maintenance manual contains these procedures.
(3) Remove any debris found during any inspection required in paragraph (e)(2) of this AD | Before further flight after the inspection in which the debris is found | Following Columbia Mandatory Service Bulletin SB-07-002, dated March 14, 2007, or Cessna Mandatory Service Bulletin SB-07-002D, dated May 29, 2008, and FAA-approved maintenance procedures. The appropriate maintenance manual contains these procedures.
(4) Inspect the aileron and elevator control rods for scarring or damage near the linear bearings | Initially inspect within the next 35 hours TIS after April 9, 2007 (the compliance date retained from AD 2007-07-06). Repetitively inspect thereafter at intervals not to exceed 12 calendar months | Following Columbia Mandatory Service Bulletin SB-07-002, dated March 14, 2007, or Cessna Mandatory Service Bulletin SB-07-002D, dated May 29, 2008, and FAA-approved maintenance procedures. The appropriate maintenance manual contains these procedures.
(5) Contact the manufacturer at the address specified in paragraph (h)(2) of this AD for a repair scheme if any scarring or damage is found during any inspection required in paragraph (e)(4) of this AD | Make all repairs before further flight after the inspection in which scarring or damage is found | Following Columbia Mandatory Service Bulletin SB-07-002, dated March 14, 2007, or Cessna Mandatory Service Bulletin SB-07-002D, dated May 29, 2008, and FAA-approved maintenance procedures. The appropriate maintenance manual contains these procedures.
(6) For the inspections required in paragraphs (e)(2) and (e)(4) of this AD, you may install a linear bearing access panel instead of drilling an inspection hole. If the hole has previously been drilled, the access panel may also be installed in addition to the inspection hole | At any time after the effective date of this AD | Following Cessna Mandatory Service Bulletin SB-07-018, dated May 29, 2008.

Note 1: Previous compliance with paragraphs (e)(1) through (e)(5) of this AD using Columbia Mandatory Service Bulletin SB-07-002A, dated August 29, 2007; Cessna Mandatory Service Bulletin SB-07-002B, dated December 10, 2007; or Cessna Mandatory Service Bulletin SB-07-002C, dated February 18, 2008, are acceptable methods of compliance.

Note 2: Compliance with Cessna Mandatory Service Bulletin SB-07-018, dated May 29, 2008, is not considered terminating action for this AD. This AD takes precedence over Cessna Mandatory Service Bulletin SB-07-018, dated May 29, 2008.

Alternative Methods of Compliance (AMOCs)

(f) The Manager, Seattle Aircraft Certification Office (ACO), FAA, ATTN: Jeff Morfitt, Aerospace Engineer, 1601 Lind Avenue, SW., Renton, WA 98057; telephone: (425) 917-6405; fax: (425) 917-6590, has the authority to approve AMOCs for this AD, if requested using the procedures found in 14 CFR 39.19. Before using any approved AMOC on any airplane to which the AMOC applies, notify your appropriate principal inspector (PI) in the FAA Flight Standards District Office (FSDO), or lacking a PI, your local FSDO.

(g) AMOCs approved for AD 2007-07-06 are approved for this AD.

Related Information

(h) To get copies of the service information referenced in this AD, contact Cessna Aircraft Company, Product Support, P.O. Box 7706, Wichita, Kansas 67227; phone (316) 517-5800; fax: (316) 942-9006. To view the AD docket, go to U.S. Department of Transportation, Docket Operations,M-30, West Building Ground Floor, Room W12-140, 1200 New Jersey Avenue, SE., Washington, DC 20590, or on the Internet at http://www.regulations.gov.

Issued in Kansas City, Missouri, on August 1, 2008.
James E. Jackson,
Acting Manager, Small Airplane Directorate, Aircraft Certification Service.

[FR Doc. E8-18231 Filed 8-6-08; 8:45 am]

BILLING CODE 4910-13-P